NATIONAL AERONAUTICS AND SPACE ADMINISTRATION

[Notice (00-029)]

Notice of Prospective Patent License

AGENCY: National Aeronautics and Space Administration.

ACTION: Notice of prospective patent license.

SUMMARY: NASA hereby gives notice that Horton's Orthotic Lab, Inc., of Little Rock, Arkansas, has applied for an exclusive license for the field of use in orthotics and prosthetics of the invention disclosed in NASA Case No. MFS-31258 entitled “Releasable Conical Roller Clutch” which has been assigned to the United States of America as represented by the Administrator of the National Aeronautics and Space Administration. Written objections to the prospective grant of a license should be sent to Mr. James J. McGroary, Patent Counsel/LS01, Marshall Space Flight Center, Huntsville, AL 35812.

DATES: Responses to this notice must be received by May 26, 2000.

FOR FURTHER INFORMATON CONTACT: Ms. Caroline Wang, Mail Code CD30, Marshall Space Flight Center, Huntsville, AL 35812; telephone 256-544-3887.

Dated: March 21, 2000.
Edward A. Frankle,
General Counsel.

[FR Doc. 00-7415 Filed 3-24-00; 8:45 am]

BILLING CODE 7510-01-U